DEPARTMENT OF ENERGY

Federal Energy Regulatory Commission

[Docket No. CP05-385-000]

Kern River Gas Transmission Company; Notice of Request Under Blanket Authorization

June 22, 2005.

Take notice that on June 13, 2005, Kern River Gas Transmission Company (Kern River) 2755 E. Cottonwood Parkway, Suite #300, Salt Lake City, Utah 84121, filed in Docket No. CP05-385-000, a prior notice request pursuant to sections 157.205 and 157.211of the Commission's Regulations under the Natural Gas Act (NGA) for authorization to construct and operate new delivery point facilities, the Redwood Meter Station, to serve the Chevron Texaco Products Company (Chevron Texaco) in Davis County, Utah, which is on file with the Commission and open to public inspection.

Any questions concerning this application may be directed to Billie L. Tolman, Manager, Tariffs and Certificates, Kern River Gas Transmission, P.O. Box 71400, Salt Lake City, Utah 84171-0400 at (801) 937-6176.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act.

Magalie R. Salas,
Secretary.

[FR Doc. E5-3477 Filed 7-1-05; 8:45 am]

BILLING CODE 6717-01-P